ENVIRONMENTAL PROTECTION AGENCY

[EPA-HQ-OPPT-2016-0483; FRL-9952-84]

Certain New Chemicals; Receipt and Status Information for August 2016

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from August 1, 2016 to August 31, 2016. This document also corrects the docket number of the previously published second Certain New Chemicals; Receipt and Status Information for June 2016 in the Federal Register of October 27, 2016.

DATES: Comments identified by the specific case number provided in this document, must be received on or before December 12, 2016.

ADDRESSES: Submit your comments, identified by docket identification (ID) number EPA-HQ-OPPT-2016-0483, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Jim Rahai, IMD 7407M, Office of Pollution Prevention and Toxics, Environmental Protection Agency, 1200 Pennsylvania Ave. NW., Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitters of the actions addressed in this document.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the agency taking?

This document provides receipt and status reports, which cover the period from August 1, 2016 to August 31, 2016, and consists of the PMNs and TMEs both pending and/or expired, and the NOCs to manufacture a new chemical that the Agency has received under TSCA section 5 during this time period.

III. What is the agency's authority for taking this action?

Under TSCA, 15 U.S.C. 2601 et seq., EPA classifies a chemical substance as either an “existing” chemical or a “new” chemical. Any chemical substance that is not on EPA's TSCA Inventory is classified as a “new chemical,” while those that are on the TSCA Inventory are classified as an “existing chemical.” For more information about the TSCA Inventory, please go to: http://www.epa.gov/opptintr/newchems/pubs/inventory.htm.

Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic reports on the status of new chemicals under review and the receipt of NOCs to manufacture those chemicals.

IV. Receipt and Status Reports

As used in each of the tables in this unit, (S) indicates that the information in the table is the specific information provided by the submitter, and (G) indicates that the information in the table is generic information because the specific information provided by the submitter was claimed as CBI.

For the 57 PMNs received by EPA during this period, Table 1 provides the following information (to the extent that such information is not claimed as CBI): The EPA case number assigned to the PMN; the date the PMN was received by EPA; the projected end date for EPA's review of the PMN; the submitting manufacturer/importer; the potential uses identified by the manufacturer/importer in the PMN; and the chemical identity.

III. What is the agency's authority for taking this action?

Under TSCA, 15 U.S.C. 2601 et seq., EPA classifies a chemical substance as either an “existing” chemical or a “new” chemical. Any chemical substance that is not on EPA's TSCA Inventory is classified as a “new chemical,” while those that are on the TSCA Inventory are classified as an “existing chemical.” For more information about the TSCA Inventory go to: http://www.epa.gov/opptintr/newchems/pubs/inventory.htm.

Anyone who plans to manufacture or import a new chemical substance for a non-exempt commercial purpose is required by TSCA section 5 to provide EPA with a notice before initiating the activity. TSCA furthermore prohibits such manufacturing or processing from commencing until EPA has conducted a review of the notice, made an appropriate determination on the notice, and taken such actions as are required in association with that determination (15 U.S.C. 2604(a)(1)(B)(ii)). Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic reports on the status of new chemicals under review and the receipt of NOCs to manufacture those chemicals.

IV. Receipt and Status Reports

As used in each of the tables in this unit, (S) indicates that the information in the table is the specific information provided by the submitter, and (G) indicates that the information in the table is generic information because the specific information provided by the submitter was claimed as CBI.

For the 57 PMNs received by EPA during this period, the table provides the following information (to the extent that such information is not claimed as CBI): The EPA case number assigned to the PMN; the date the PMN was received by EPA; the projected end date for EPA's review of the PMN; the submitting manufacturer/importer; the potential uses identified by the manufacturer/importer in the PMN; and the chemical identity.

Table 1—PMNs Received From August 1, 2016 to August 31, 2016
Case No. | Received date | Projected notice end date | Manufacturer importer | Use | Chemical
P-16-0502 | 8/1/2016 | 10/30/2016 | CBI | (S) Corrosion inhibitor for penetrating or spray oils | (S) Undecanoic acid, branched.
P-16-0502 | 8/1/2016 | 10/30/2016 | CBI | (S) Chemical intermediate for ester production for oil additives and lubricants | (S) Undecanoic acid, branched.
P-16-0502 | 8/1/2016 | 10/30/2016 | CBI | (S) Corrosion inhibitor for gear oils | (S) Undecanoic acid, branched.
P-16-0502 | 8/1/2016 | 10/30/2016 | CBI | (S) Chemical intermediate (neutralized) for use as a corrosion inhibitor | (S) Undecanoic acid, branched.
P-16-0502 | 8/1/2016 | 10/30/2016 | CBI | (S) Corrosion inhibitor for hydraulic fluids | (S) Undecanoic acid, branched.
P-16-0502 | 8/1/2016 | 10/30/2016 | CBI | (S) Export | (S) Undecanoic acid, branched.
P-16-0503 | 8/2/2016 | 10/31/2016 | Allnex USA Inc. | (S) Site limited intermediate for production of a deck stain coating resin additive | (G) Fatty acids, polymers with alkanoic acid, substituted carbomonocycle, alkyl peroxide-initiated.
P-16-0504 | 8/2/2016 | 10/31/2016 | Colonial Chemical, Inc | (S) Fire fighting foams | (S) Amides, soya, N-[-3(dimethylamino)propyl], N-oxides.
P-16-0504 | 8/2/2016 | 10/31/2016 | Colonial Chemical, Inc | (S) Household surfactant formulas | (S) Amides, soya, N-[-3(dimethylamino)propyl], N-oxides.
P-16-0505 | 8/2/2016 | 10/31/2016 | CBI | (S) Polymeric resin for ultraviolet (uv) curable acrylates | (S) Poly[oxy(methyl- 1, 2- ethanediyl) ] , ?- (1- oxo- 2- propen- 1- yl) - ?- [(1- oxo- 2- propen- 1- yl) oxy].
P-16-0506 | 8/31/2016 | 11/29/2016 | CBI | (G) Filler | (G) Organosilane modified alumina.
P-16-0507 | 8/3/2016 | 11/1/2016 | Lamberti USA Inc. | (G) Additive for industrial purposes | (G) Hydroxy acids, polymer, reaction product with polyethyleneimine.
P-16-0509 | 8/5/2016 | 11/3/2016 | CBI | (G) For packaging application | (G) Modified evoh.
P-16-0510 | 8/5/2016 | 11/3/2016 | International Flavors and Fragrances Inc | (S) The notified polymer functions to reduce malodors. It will be sold to industrial and commercial customers for their incorporation into industrial, commercial, and household consumer products such as floor cleaners, cat litters, fabric refresher sprays, Etc | (S) Oxirane, 2-methyl-, polymer with oxirane, bis[2-[(1-oxo-2-propen-1-yl)amino]propyl] ether.
P-16-0511 | 8/15/2016 | 11/13/2016 | CBI | (G) Oilfield additive | (S) Benzenesulfonic acid, 4 - C10 - 13-sec-alkyl derivs., compds. with ethanolamine.
P-16-0512 | 8/9/2016 | 11/7/2016 | CBI | (S) Component of a ultraviolet curable printing inks | (G) Fatty acid dimers, polymer with acrylic acid and pentaerythritol reaction products.
P-16-0513 | 8/8/2016 | 11/6/2016 | CBI | (S) Intermediate for further reaction | (G) Alkylphenol.
P-16-0514 | 8/9/2016 | 11/7/2016 | CBI | (G) Catalyst | (G) Mixed metal oxide.
P-16-0515 | 8/9/2016 | 11/7/2016 | CBI | (G) Additive | (G) Diamine substituted arylimidazole.
P-16-0516 | 8/12/2016 | 11/10/2016 | CBI | (S) Intermediate for pesticide manufacture | (G) Aminohalocarboxylate.
P-16-0517 | 8/12/2016 | 11/10/2016 | CBI | (G) Monomer for polymer application | (G) Methacrylic acid ester.
P-16-0518 | 8/12/2016 | 11/10/2016 | CBI | (G) Adhesion resin | (G) Polyalkylether polyester
P-16-0519 | 8/12/2016 | 11/10/2016 | CBI | (G) Adhesion resin | (G) Polyalkylether polyester.
P-16-0520 | 8/15/2016 | 11/13/2016 | CBI | (G) The anticipated use is as a deposit control agent and pigment dispersant | (G) 2-propenoic acid, polymer with N-(alkyl)-2propenamide, sodium alkyl alkene sulfonate (1:1) and sodium 2-methyl-2-[(1-oxo-2-propen-1-yl) amino]-1-propanesulfonate (1:1), peroxydisulfuric acid ([(ho)s(o)2]2o2) sodium salt (1:2)-initiated.
P-16-0521 | 8/15/2016 | 11/13/2016 | CBI | (G) The anticipated use is as a deposit control agent and pigment dispersant | (G) 2-propenoic acid, polymer with N-(alkyl)-2propenamide, sodium alkyl alkene sulfonate (1:1) and sodium 2-methyl-2-[(1-oxo-2-propen-1-yl) amino]-1-propanesulfonate (1:1), potassium salt, peroxydisulfuric acid ([(ho)s(o)2]2o2) sodium salt (1:2)-initiated.
P-16-0522 | 8/15/2016 | 11/13/2016 | CBI | (G) The anticipated use is as a deposit control agent and pigment dispersant | (G) 2-propenoic acid, polymer with N-(alkyl)-2propenamide, sodium alkyl alkene sulfonate (1:1) and sodium 2-methyl-2-[(1-oxo-2-propen-1-yl) amino]-1-propanesulfonate (1:1), sodium salt, peroxydisulfuric acid ([(ho)s(o)2]2o2) sodium salt (1:2)-initiated.
P-16-0523 | 8/15/2016 | 11/13/2016 | CBI | (G) The anticipated use is as a deposit control agent and pigment dispersant | (G) 2-propenoic acid, polymer with N-(alkyl)-2propenamide, sodium alkyl alkene sulfonate (1:1) and sodium 2-methyl-2-[(1-oxo-2-propen-1-yl) amino]-1-propanesulfonate (1:1), ammonium salt, peroxydisulfuric acid ([(ho)s(o)2]2o2) sodium salt (1:2)-initiated.
P-16-0524 | 8/18/2016 | 11/16/2016 | Miwon North America, Inc. | (S) Resin for industrial coating | (G) Acrylated resin.
P-16-0525 | 8/18/2016 | 11/16/2016 | CBI | (G) Ingredient for ink, coating and adhesive formulations | (G) Polyester benzoate.
P-16-0526 | 8/18/2016 | 11/16/2016 | CBI | (G) Coatings application | (G) Fluorinated alkyl derivative.
P-16-0526 | 8/18/2016 | 11/16/2016 | CBI | (G) Electronic cleaner | (G) Fluorinated alkyl derivative.
P-16-0526 | 8/18/2016 | 11/16/2016 | CBI | (G) Printing application | (G) Fluorinated alkyl derivative.
P-16-0527 | 8/19/2016 | 11/17/2016 | CBI | (S) Uv absorber for plastic articles | (G) Bis[[(diphenyl-heteroaryl)-substituted phenoxy]ethyl] dodecanedioate.
P-16-0528 | 8/23/2016 | 11/21/2016 | Shell Chemical LP | (S) Coatings | (S) Hydrocarbons, C16 - 22, branched and linear.
P-16-0528 | 8/23/2016 | 11/21/2016 | Shell Chemical LP | (S) Cleaning fluids | (S) Hydrocarbons, C16 - 22, branched and linear.
P-16-0528 | 8/23/2016 | 11/21/2016 | Shell Chemical LP | (S) Sold as intermediate | (S) Hydrocarbons, C16 - 22, branched and linear.
P-16-0528 | 8/23/2016 | 11/21/2016 | Shell Chemical LP | (S) Agrochemicals | (S) Hydrocarbons, C16 - 22, branched and linear.
P-16-0528 | 8/23/2016 | 11/21/2016 | Shell Chemical LP | (S) Metal workings fluids/Rolling oils | (S) Hydrocarbons, C16 - 22, branched and linear.
P-16-0529 | 8/24/2016 | 11/22/2016 | CBI | (S) Personal care products | (G) Polyalkyl methylsiloxane.
P-16-0529 | 8/24/2016 | 11/22/2016 | CBI | (G) Textile treatment | (G) Polyalkyl methylsiloxane.
P-16-0529 | 8/24/2016 | 11/22/2016 | CBI | (G) Commercial polish | (G) Polyalkyl methylsiloxane.
P-16-0530 | 8/25/2016 | 11/23/2016 | CBI | (S) Concrete and Stone coating | (S) 2-propenoic acid, 2-methyl, 2-(dimethylamino) ethyl ester, polymer with ethyl 2-propenoate, 2-hydroxyethyl m2-propenoate and methyl 2-methyl 2-propenoate, acetate salt.
P-16-0530 | 8/25/2016 | 11/23/2016 | CBI | (S) Concrete and Stone coating | (S) 2-propenoic acid, 2-methyl-, 2-(dimethylamino) ethyl ester, polymer with ethyl 2-propenoate, 2-hydroxyethyl 2-propenoate and methyl 2-methyl 2-propenoate, acetate (salt).
P-16-0531 | 8/24/2016 | 11/22/2016 | CBI | (G) Additive for use in mineral processing | (G) Alkyloxy propanamine.
P-16-0532 | 8/25/2016 | 11/23/2016 | CBI | (G) Ingredient used in fertilizer manufacturing | (G) Substituted heteromonocycle.
P-16-0533 | 8/25/2016 | 11/23/2016 | CBI | (G) The blended final product is used as a cleaning agent for electronics manufacturing | (G) Ethanaminium, alkyl-, salt with aromatic triazole.
P-16-0534 | 8/31/2016 | 11/29/2016 | CBI | (G) Component of ink | (G) Alkyl alkenoic acid, polymer with alkenylcarbomonocycle telomer with substituted alkanoic acid hydroxyl alkyl substituted alkenyl substituted alkyl ester, polyalkylene glycol alkyl ether alkyl alkenoate, dialkylene glycol diheteromonocyclic ether and alkylcarbomonocyclic alkenoate, metal salt.
P-16-0535 | 8/31/2016 | 11/29/2016 | CBI | (G) Component of ink | (G) Alkyl alkenoic acid, polymer with alkenylcarbomonocycle telomer with substituted alkanoic acid hydroxyl alkyl substituted alkenyl substituted alkyl ester, alkanediol diheteromonocyclic ether, polyalkylene glycol alkyl ether alkyl alkenoate and alkylcarbomonocyclic alkenoate, metal salt.
P-16-0536 | 8/31/2016 | 11/29/2016 | CBI | (G) Component of ink | (G) Alkyl alkenoic acid, polymer with bis heteromonocyclic substituted alkyl carbomonocycle, alkenylcarbomonocycle telomer with substituted alkanoic acid hydroxyl alkyl substituted alkenyl substituted alkyl ester, polyalkylene glycol alkyl ether alkyl alkenoate and alkylcarbomonocyclic alkenoate, metal salt.
P-16-0538 | 8/26/2016 | 11/24/2016 | Omnium International | (S) PMN substance is a component in a metalworking fluid preparation imported into the U.S | (S) 9-octadecenoic acid (9z)-, compound with N-cyclohexylcyclohexanamine (1:1).
P-16-0539 | 8/26/2016 | 11/24/2016 | CBI | (G) Photolithography | (G) Organic sulfonate compound.
P-16-0540 | 8/29/2016 | 11/27/2016 | CBI | (G) Polymeric film former for coatings | (G) Diphenolic compound, polymer with 2-(chloromethyl)oxirane and 4,4′-methylenebis[di-alkyl-substituted phenol].
P-16-0541 | 8/29/2016 | 11/27/2016 | Specialty Organics, Inc. | (S) Adhesive for wood particle/Chip/Fiber board | (S) Soybean meal, reaction products with phosphoric trichloride.
P-16-0542 | 8/30/2016 | 11/28/2016 | CBI | (G) Chemical/Polymer Modifier | (G) Polydimethylsiloxane with functional end-caps.
P-16-0543 | 8/31/2016 | 11/29/2016 | CBI | (G) Battery ingredient | (G) Halogenophosphoric acid metal salt.
P-16-0544 | 8/31/2016 | 11/29/2016 | Guardian Industries Corp | (S) Additive to influence melting temperature of raw materials and physical characteristics of the final product during the manufacture of flat glass | (S) Flue dust, glass-manufacturing desulfurization, calcium hydroxide-treated. Definition: The dust produced form the flue gas exhaust cleaning of a glass manufacturing process followed by treatment with hydrated lime. It consists primarily of caso4 and ca(co3).
P-16-0544 | 8/31/2016 | 11/29/2016 | Guardian Industries Corp | (S) Additive to influence melting temperature of raw materials and physical characteristics of the final product during the manufacture of flat glass | (S) Flue dust, glass-manufg. desulfurization, calcium hydroxide-treated. Definition: The dust produced form the flue gas exhaust cleaning of a glass manufacturing process followed by treatment with hydrated lime. It consists primarily of caso4 and ca(co3).

For the 46 NOCs received by EPA during this period, Table 3 provides the following information (to the extent that such information is not claimed as CBI): The EPA case number assigned to the NOC; the date the NOC was received by EPA; the projected date of commencement provided by the submitter in the NOC; and the chemical identity.

Table 2—NOCs Received From August 1, 2016 to August 31, 2016
Case No. | Received date | Commencement date | Chemical
P-04-0641 | 8/16/2016 | 8/14/2016 | (G) Polyetherpolyol polymer with aromatic dialkylamine.
P-04-0641 | 8/16/2016 | 8/15/2016 | (G) Polyetherpolyol polymer with aromatic dialkylamine.
P-06-0458 | 8/29/2016 | 5/21/2013 | (S) 13-docosenoic acid, magnesium salt, (13z)-.
P-06-0458 | 8/29/2016 | 5/22/2013 | (S) 13-docosenoic acid, magnesium salt, (13z)-.
P-12-0190 | 8/11/2016 | 7/10/2016 | (G) Fatty acid ester.
P-12-0190 | 8/11/2016 | 7/11/2016 | (G) Fatty acid ester.
P-12-0249 | 8/23/2016 | 7/12/2012 | (S) Canola oil, reaction product with 1-butene.
P-12-0249 | 8/23/2016 | 7/13/2012 | (S) Canola oil, reaction product with 1-butene.
P-12-0250 | 8/23/2016 | 7/18/2012 | (S) Canola oil, reaction products with 1-butene, distillation residues.
P-12-0250 | 8/23/2016 | 7/19/2012 | (S) Canola oil, reaction products with 1-butene, distillation residues.
P-12-0251 | 8/23/2016 | 8/14/2012 | (S) Canola oil, reaction products with 1-butene, distillation residues, methyl esters.
P-12-0251 | 8/23/2016 | 8/15/2012 | (S) Canola oil, reaction products with 1-butene, distillation residues, methyl esters.
P-12-0382 | 8/12/2016 | 7/13/2016 | (S) Alkenes, C20 - 24 a-, reaction products with 1-hexacosene, 1-octacosene, 1-octadecene and polyethylene distn. residues.
P-12-0382 | 8/12/2016 | 7/14/2016 | (S) Alkenes, c20 - 24 a-, reaction products with 1-hexacosene, 1-octacosene, 1-octadecene and polyethylene distn. residues.
P-12-0513 | 8/26/2016 | 7/15/2016 | (G) Aromatic dicarboxylic acid, polymer with dialkyl alkanediol, alkyl-(hydroxyalkyl)-alkanediol, dicarboxylic acid, heteropolcyclic anhydride, alkanetriol, hydroxy-[(oxoalkyl)oxy]alkyl ester.
P-12-0513 | 8/26/2016 | 7/16/2016 | (G) Aromatic dicarboxylic acid, polymer with dialkyl alkanediol, alkyl-(hydroxyalkyl)-alkanediol, dicarboxylic acid, heteropolcyclic anhydride, alkanetriol, hydroxy-[(oxoalkyl)oxy]alkyl ester.
P-14-0260 | 8/29/2016 | 8/3/2016 | (S) Propene, 2-bromo-3,3,3-trifluoro-.
P-14-0260 | 8/29/2016 | 8/4/2016 | (S) Propene, 2-bromo-3,3,3-trifluoro-.
P-14-0331 | 8/1/2016 | 7/17/2016 | (G) 2-propenoic acid, 2-methyl-, octadecyl ester, polymer with butyl 2-propenoate and alkyl lactam.
P-14-0331 | 8/1/2016 | 7/18/2016 | (G) 2-propenoic acid, 2-methyl-, octadecyl ester, polymer with butyl 2-propenoate and alkyl lactam.
P-14-0373 | 8/6/2016 | 8/3/2016 | (S) Neononanoic acid, ethenyl ester, polymer with butyl 2-methyl-2-propenoate, butyl 2-propenoate, ethenylbenzene, 2-hydroxyethyl 2-methyl-2-propenoate, methyl 2-methyl-2-propenoate and rel-(1r, 2r, 4r)-1,7,7-trimethylbicyclo [2.2.1]heptyl-2-yl 2-methyl-2-propenoate.
P-14-0373 | 8/6/2016 | 8/4/2016 | (S) Neononanoic acid, ethenyl ester, polymer with butyl 2-methyl-2-propenoate, butyl 2-propenoate, ethenylbenzene, 2-hydroxyethyl 2-methyl-2-propenoate, methyl 2-methyl-2-propenoate and rel-(1r, 2r, 4r)-1,7,7-trimethylbicyclo [2.2.1]heptyl-2-yl 2-methyl-2-propenoate.
P-14-0479 | 8/17/2016 | 6/28/2016 | (S) Carbonic acid, dimethyl ester, polymer with 1,4-diisocyanatobenzene, 1,6-hexanediol, 1,5-pentanediol and 2,2′-[1,?4-phenylenebis(oxy)]bis[ethanol].
P-14-0479 | 8/17/2016 | 6/29/2016 | (S) Carbonic acid, dimethyl ester, polymer with 1,4-diisocyanatobenzene, 1,6-hexanediol, 1,5-pentanediol and 2,2′-[1,?4-phenylenebis(oxy)]bis[ethanol].
P-14-0851 | 8/19/2016 | 7/24/2016 | (G) Polyurethane.
P-14-0851 | 8/19/2016 | 7/25/2016 | (G) Polyurethane.
P-14-0852 | 8/19/2016 | 7/24/2016 | (G) Polyurethane.
P-14-0852 | 8/19/2016 | 7/25/2016 | (G) Polyurethane.
P-14-0853 | 8/22/2016 | 7/24/2016 | (G) Polyurethane.
P-14-0853 | 8/22/2016 | 7/25/2016 | (G) Polyurethane.
P-14-0854 | 8/22/2016 | 7/24/2016 | (G) Polyurethane.
P-14-0854 | 8/22/2016 | 7/25/2016 | (G) Polyurethane.
P-15-0569 | 8/5/2016 | 8/3/2016 | (S) Benzene, 2,4-diisocyanato-1-methyl,homopolymer, N1, N1-dimethyl-1,3-propanediamine-and polytheylene-polypropylene glycol mono-bu ether-blocked.
P-15-0569 | 8/5/2016 | 8/4/2016 | (S) Benzene, 2,4-diisocyanato-1-methyl,homopolymer, N1, N1-dimethyl-1,3-propanediamine-and polytheylene-polypropylene glycol mono-bu ether-blocked.
P-16-0036 | 8/29/2016 | 8/1/2016 | (G) Substituted heteropolycycle.
P-16-0036 | 8/29/2016 | 8/2/2016 | (G) Substituted heteropolycycle.
P-16-0070 | 8/22/2016 | 8/7/2016 | (S) Boron sodium oxide (b5nao8), labeled with boron-10.
P-16-0070 | 8/22/2016 | 8/8/2016 | (S) Boron sodium oxide (b5nao8), labeled with boron-10.
P-16-0158 | 8/16/2016 | 7/21/2016 | (G) Modified urethane polymer salt with polyether.
P-16-0158 | 8/16/2016 | 7/22/2016 | (G) Modified urethane polymer salt with polyether.
P-16-0160 | 8/29/2016 | 7/31/2016 | (S) Ethanol, 2-amino-, reaction products with ammonia, by-products from, distillation residues.
P-16-0160 | 8/29/2016 | 8/1/2016 | (S) Ethanol, 2-amino-, reaction products with ammonia, by-products from, distillation residues.
P-16-0181 | 8/12/2016 | 7/21/2016 | (G) Butenoic acid, thio-ethanediyl ester.
P-16-0181 | 8/12/2016 | 7/22/2016 | (G) Butenoic acid, thio-ethanediyl ester.
P-16-0281 | 8/30/2016 | 8/11/2016 | (G) Fatty alcohols—dimers, trimmers, polymers.
P-16-0281 | 8/30/2016 | 8/12/2016 | (G) Fatty alcohols—dimers, trimmers, polymers.

V. Correction

In the Federal Register of October 27, 2016 (81 FR 74784) (FRL-9952-62), in the first column, the Docket Identification number is corrected to read EPA-HQ-OPPT-2016-0482.

Authority: 15 U.S.C. 2601 et seq.

Dated: October 26, 2016.
Pamela Myrick,
Director, Information Management Division, Office of Pollution Prevention and Toxics.

[FR Doc. 2016-27193 Filed 11-9-16; 8:45 am]

BILLING CODE 6560-50-P